DEPARTMENT OF TRANSPORTATION

Federal Aviation Administration

14 CFR Part 71

[Docket No. FAA-2004-17136; Airspace Docket No. 04-AGL-08]

Modification of Class D Airspace; Camp Douglas, WI; Correction

AGENCY: Federal Aviation Administration (FAA), DOT.

ACTION: Final rule; correction.

SUMMARY: This action corrects an error contained in a final rule that was published in the Federal Register on Tuesday, August 24, 2004 (69 FR 51945). The final rule modified Class D airspace at Camp Douglas, WI.

EFFECTIVE DATE: 0901 UTC, November 25, 2004.

FOR FURTHER INFORMATION CONTACT: J. Mark Reeves, Central Service Office, Airspace Branch, AGL-520, Federal Aviation Administration, 2300 East Devon Avenue, Des Plaines, IL 60018, telephone: (847) 294-7477.

SUPPLEMENTARY INFORMATION:

History

Federal Register document 04-19374 published on Tuesday, August 24, 2004 (69 FR 51945), modified Class D airspace at Camp Douglas, WI. A portion of the Class D airspace radius was left out of the legal description. This action corrects this error.

Accordingly, pursuant to the authority delegated to me, the error for the Class D airspace, Camp Douglas, WI, as published in the Federal Register Tuesday, August 24, 2004, (69 FR 51945). (FR Doc. 04-19374), is corrected as follows:

PART 71—[AMENDED]

§ 71.1 [Corrected]

1. On page 51945, Column 3; change the legal description to read:

That airspace extending upward from the surface to and including 3,400 feet MSL within a 5.2-mile radius of Volk Field from the Volk Field 100° bearing clockwise to the Volk Field 250° bearing, and within a 5.8-mile radius of the Volk Field 250° bearing clockwise to the Volk Field 110° bearing. This Class D airspace is effective during the specific dates and times established in advance by a Notice to Airmen. The effective date and time will thereafter be continuously published in the Airport/Facility Directory.

Issued in Des Plaines, Illinois on November 16, 2004.
Nancy B. Kort,
Area Director, Central Terminal Operations.

[FR Doc. 04-27090 Filed 12-9-04; 8:45 am]

BILLING CODE 4910-13-M